DEPARTMENT OF JUSTICE

Notice of Lodging of Consent Decree Under the Comprehensive Environmental Response, Compensation, and Liability Act

Notice is hereby given that on August 17, 2011, a proposed Consent Decree in United States v. Hammond Group, Inc., Civil Action No. 2:11-cv-00298-JD-PRC, was filed with the United States District Court for Northern District of Indiana, Hammond Division.

In this action pursuant to the Comprehensive Environmental Response, Compensation, and Liability Act, 42 U.S.C. 9607-9675, as amended (“CERCLA”), the United States seeks recovery of costs it incurred in connection to the release or threatened release of hazardous substances into the environment at the Columbia Avenue Spill Site in Hammond, Indiana, as well as a declaratory judgment that the Defendant is liable for any future costs related to the Site. Under the terms of the proposed Consent Decree, the Defendant will pay in eight quarterly installments the sum of $1,389,569.88, which represents all costs incurred by EPA in connection with the Site, and interest. In return, the Defendant will receive covenants not to sue under Sections 107(a) and 106 of CERCLA, 42 U.S.C. 9607(a) and 9606.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to either: United States v. Hammond Group, Inc., Civil Action No. 2:11-cv-00298-JD-PRC, or D.J. Ref. 90-11-3-10080. The Consent Decree may be examined at the Office of the United States Attorney, Northern District of Indiana, 5400 Federal Plaza, Suite 1500, Hammond, Indiana 46320. During the public comment period, the Consent Decree may also be examined at the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree library, please enclose a check, payable to the U.S. Treasury, in the amount of $21.50 (25 cents per page reproduction cost), or, if by e-mail or fax, forward a check in the applicable amount to the Consent Decree Library at the stated address.

Maureen Katz,
Assistant Chief, Environmental Enforcement Section, Environment and Natural Resources Division.

[FR Doc. 2011-21703 Filed 8-24-11; 8:45 am]

BILLING CODE 4410-15-P